DEPARTMENT OF ENERGY

Federal Energy Regulatory Commission

Combined Notice of Filings

Take notice that the Commission has received the following Natural Gas Pipeline Rate and Refund Report filings:

Filings Instituting Proceedings

Docket Numbers: RP12-985-000.

Applicants: MarkWest Pioneer, L.L.C.

Description: Quarterly Fuel Adjustment Filing of MarkWest Pioneer, L.L.C.

Filed Date: 8/31/12.

Accession Number: 20120831-5054.

Comments Due: 5 p.m. e.t. 9/26/12.

Docket Numbers: RP12-1038-000.

Applicants: ANR Pipeline Company.

Description: Discount Type Adjustments to be effective 10/15/2012.

Filed Date: 9/14/12.

Accession Number: 20120914-5085.

Comments Due: 5 p.m. e.t. 9/26/12.

Docket Numbers: RP12-1039-000.

Applicants: Alliance Pipeline L.P.

Description: September 2012 Second Auction to be effective 9/14/2012.

Filed Date: 9/14/12.

Accession Number: 20120914-5132.

Comments Due: 5 p.m. e.t. 9/26/12.

Docket Numbers: RP12-1040-000.

Applicants: CenterPoint Energy Gas Transmission Comp.

Description: CEGT LLC—Fuel Tracker Filing Effective November 1, 2012 to be effective 11/1/2012.

Filed Date: 9/17/12.

Accession Number: 20120917-5026.

Comments Due: 5 p.m. e.t. 10/1/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: CP10-16-002.

Applicants: Cadeville Gas Storage LLC.

Description: Certificate amendment to make changes to pro forma tariff of Cadeville Gas Storage LLC.

Filed Date: 8/17/12.

Accession Number: 20120817-5013.

Comments Due: 5 p.m. e.t. 9/24/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 17, 2012.
Nathaniel J. Davis, Sr.,
Deputy Secretary.

[FR Doc. 2012-23338 Filed 9-20-12; 8:45 am]

BILLING CODE 6717-01-P